DEPARTMENT OF THE INTERIOR

National Park Service

[NPS-WASO-NAGPRA-NPS0033085; PPWOCRADN0-PCU00RP14.R50000]

Notice of Inventory Completion: U.S. Department of the Interior, Bureau of Land Management, Alaska State Office, Anchorage, AK

AGENCY: National Park Service, Interior.

ACTION: Notice.

SUMMARY: The U.S. Department of the Interior, Bureau of Land Management, Alaska State Office (BLM) has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the BLM. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with supporting information to the BLM at the address in this notice by January 10, 2022.

FOR FURTHER INFORMATION CONTACT: Robert E. King, Bureau of Land Management, 222 W. 7th Avenue, #13, Anchorage, AK 99513, telephone (907) 271-5510, email r2king@blm.gov.

SUPPLEMENTARY INFORMATION: Notice is here given in accordance with the Native American Graves Protection and Repatriation Act (NAGPRA), 25 U.S.C. 3003, of the completion of an inventory of human remains and associated funerary objects under the control of the U.S. Department of the Interior, Bureau of Land Management, Alaska State Office, Anchorage, AK. The human remains and associated funerary objects were removed from the Rolling Bay site (KOD-101) on Sitkalidak Island, located near Kodiak Island, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the BLM with the help of the University of Alaska Museum of the North professional staff in consultation with representatives of the Alutiiq Tribe of Old Harbor [previously listed as Native Village of Old Harbor and Village of Old Harbor].

History and Description of the Remains

Sometime between the late 1940s and the late 1970s, human remains representing, at minimum, three individuals were removed from the Rolling Bay site on Sitkalidak Island, which is located near Kodiak Island, AK, by William Laughlin. During these years, Laughlin was associated with several universities. The remains of these individuals were found at the Museum of Anthropological Archaeology at the University of Michigan, Ann Arbor, MI, where, at an unknown date, they had been sent as part of a study on Eastern Aleutian archeology undertaken in collaboration with faculty member Ted P. Bank, II. In 2014, these human remains were transferred to the Bureau of Land Management in Anchorage, AK, and in late 2018, the BLM transferred them to the University Museum of the North, Fairbanks, AK, where they are currently housed. The human remains, comprised of eight teeth, belong to three adults of unknown sex. No known individuals were identified. No associated funerary objects are present.

At minimum, the burials containing the three individuals were over 200 years old (their actual age unknown). The human remains are determined to be Native American based on their provenience (Sitkalidak Island, AK), physical condition, and morphology. Archeological and oral traditional information suggest many thousands of years of shared ancestry between current and past populations of the area and Alutiiq peoples' use of Sitkalidak Island, near Kodiak Island. Therefore, the human remains are determined to be directly related to Kodiak Island Alutiiq people represented by the Alutiiq Tribe of Old Harbor.

Determinations Made by the U.S. Department of the Interior, Bureau of Land Management, Alaska State Office

Federal Agency Officials of the U.S. Department of the Interior, Bureau of Land Management, Alaska State Office have determined that:

• Pursuant to 25 U.S.C. 3001(9), the human remains described in this notice represent the physical remains of three individuals of Native American ancestry.

• Pursuant to 25 U.S.C. 3001(2), there is a relationship of shared group identity that can be reasonably traced between the Native American human remains and the Alutiiq Tribe of Old Harbor [previously listed as Native Village of Old Harbor and Village of Old Harbor].

Additional Requestors and Disposition

Lineal descendants or representatives of any Indian Tribe or Native Hawaiian organization not identified in this notice that wish to request transfer of control of these human remains should submit a written request with information in support of the request to Robert E. King, Bureau of Land Management, 222 W. 7th Avenue, #13, Anchorage, AK 99513, telephone (907) 271-5510, email r2king@blm.gov, by January 10, 2022. After that date, if no additional requestors have come forward, transfer of control of the human remains to the Alutiiq Tribe of Old Harbor [previously listed as Native Village of Old Harbor and Village of Old Harbor] may proceed.

The U.S. Department of the Interior, Bureau of Land Management, Alaska State Office is responsible for notifying the Alutiiq Tribe of Old Harbor [previously listed as Native Village of Old Harbor and Village of Old Harbor] that this notice has been published.

Dated: December 3, 2021.
Melanie O'Brien,
Manager, National NAGPRA Program.

[FR Doc. 2021-26768 Filed 12-9-21; 8:45 am]

BILLING CODE 4312-52-P